DEPARTMENT OF ENERGY

Federal Energy Regulatory Commission

Combined Notice of Filings #1

Take notice that the Commission received the following electric corporate filings:

Docket Numbers: EC22-26-000.

Applicants: Liberty Utilities Co., Kentucky Power Company, AEP Kentucky Transmission Company, Inc.

Description: Liberty Utilities Company, et. al. submits Supplemental Information in Response to FERC April 25, 2022 Deficiency Letter.

Filed Date: 5/5/22.

Accession Number: 20220505-5174.

Comment Date: 5 p.m. ET 5/26/22.

Docket Numbers: EC22-63-000.

Applicants: Alliance Energy Group LLC.

Description: Application for Authorization Under Section 203 of the Federal Power Act of Greeley Energy Facility, LLC.

Filed Date: 5/9/22.

Accession Number: 20220509-5053.

Comment Date: 5 p.m. ET 5/30/22.

Take notice that the Commission received the following exempt wholesale generator filings:

Docket Numbers: EG22-114-000.

Applicants: Great Prairie Wind, LLC.

Description: Great Prairie Wind, LLC submits Notice of Self-Certification of Exempt Wholesale Generator Status.

Filed Date: 5/9/22.

Accession Number: 20220509-5116.

Comment Date: 5 p.m. ET 5/30/22.

Take notice that the Commission received the following electric rate filings:

Docket Numbers: ER22-1079-000.

Applicants: Pacific Gas and Electric Company.

Description: Refund Report: CCSF Sunol Additional Refund Compliance Filing (SA 275) to be effective N/A.

Filed Date: 5/6/22.

Accession Number: 20220509-5000.

Comment Date: 5 p.m. ET 5/27/22.

Docket Numbers: ER22-1707-000.

Applicants: Duquesne Light Company.

Description: Duquesne Light Company Requests Authorization to use Incentive Rate Treatment of 100 Percent CWIP, Related to Its Investments in the Brunot Island—Carson 345 kV Underground Cable Forced Cooling Project.

Filed Date: 4/26/22.

Accession Number: 20220426-5331.

Comment Date: 5 p.m. ET 5/17/22.

Docket Numbers: ER22-1811-000.

Applicants: Wisconsin Power and Light Company.

Description: Initial rate filing: WPL-Kossuth Assignment Co-Tenancy and SFA to be effective 5/7/2022.

Filed Date: 5/6/22.

Accession Number: 20220506-5176.

Comment Date: 5 p.m. ET 5/27/22.

Docket Numbers: ER22-1812-000.

Applicants: PJM Interconnection, L.L.C.

Description: § 205(d) Rate Filing: Original ISA, Service Agreement No. 6429; Queue No. AC2-023 to be effective 4/6/2022.

Filed Date: 5/6/22.

Accession Number: 20220506-5187.

Comment Date: 5 p.m. ET 5/27/22.

Docket Numbers: ER22-1813-000.

Applicants: Alabama Power Company, Georgia Power Company, Mississippi Power Company.

Description: § 205(d) Rate Filing: Alabama Power Company submits tariff filing per 35.13(a)(2)(iii: Escambia County Solar (Hybrid Project) LGIA Filing to be effective 4/26/2022.

Filed Date: 5/9/22.

Accession Number: 20220509-5015.

Comment Date: 5 p.m. ET 5/30/22.

Docket Numbers: ER22-1814-000.

Applicants: PJM Interconnection, L.L.C.

Description: § 205(d) Rate Filing: Original NSA, Service Agreement No. 6453; Queue No. AE2-133 to be effective 4/7/2022.

Filed Date: 5/9/22.

Accession Number: 20220509-5035.

Comment Date: 5 p.m. ET 5/30/22.

Docket Numbers: ER22-1815-000.

Applicants: Mulligan Solar, LLC.

Description: Baseline eTariff Filing: Reactive Power Compensation Filing to be effective 7/8/2022.

Filed Date: 5/9/22.

Accession Number: 20220509-5064.

Comment Date: 5 p.m. ET 5/30/22.

Docket Numbers: ER22-1816-000.

Applicants: Florida Power & Light Company.

Description: Tariff Amendment: Termination of TFCAT between FPL and Southern to be effective 5/31/2023.

Filed Date: 5/9/22.

Accession Number: 20220509-5071.

Comment Date: 5 p.m. ET 5/30/22.

Docket Numbers: ER22-1817-000.

Applicants: Florida Power & Light Company.

Description: § 205(d) Rate Filing: Amendment to RS No. 329 Certificate of Concurrence between FPL and Southern to be effective 12/31/9998.

Filed Date: 5/9/22.

Accession Number: 20220509-5072.

Comment Date: 5 p.m. ET 5/30/22.

Docket Numbers: ER22-1818-000.

Applicants: Gulf Power Company.

Description: Tariff Amendment: Notice of Cancellation of eTariff .Records—Agreements to be effective 12/31/9998.

Filed Date: 5/9/22.

Accession Number: 20220509-5073.

Comment Date: 5 p.m. ET 5/30/22.

Docket Numbers: ER22-1819-000.

Applicants: Gulf Power Company.

Description: Tariff Amendment: Notice of Cancellation of eTariff Records—Cost Based Rate Tariffs to be effective 12/31/9998.

Filed Date: 5/9/22.

Accession Number: 20220509-5074.

Comment Date: 5 p.m. ET 5/30/22.

Docket Numbers: ER22-1820-000.

Applicants: Alabama Power Company, Georgia Power Company, Mississippi Power Company, Southern Power Company.

Description: § 205(d) Rate Filing: Alabama Power Company submits tariff filing per 35.13(a)(2)(iii: Amended and Restated IIC Filing (Gulf Exiting Pool) to be effective 12/31/9998.

Filed Date: 5/9/22.

Accession Number: 20220509-5076.

Comment Date: 5 p.m. ET 5/30/22.

Docket Numbers: ER22-1821-000.

Applicants: Alabama Power Company, Georgia Power Company, Mississippi Power Company.

Description: Tariff Amendment: Alabama Power Company submits tariff filing per 35.15: FPL NITSA Termination Filing (Gulf Exiting Pool) to be effective 12/31/9998.

Filed Date: 5/9/22.

Accession Number: 20220509-5077.

Comment Date: 5 p.m. ET 5/30/22.

Docket Numbers: ER22-1822-000.

Applicants: Alabama Power Company, Georgia Power Company, Mississippi Power Company.

Description: § 205(d) Rate Filing: Alabama Power Company submits tariff filing per 35.13(a)(2)(iii: FP&L NITSA Filing to be effective 12/31/9998.

Filed Date: 5/9/22.

Accession Number: 20220509-5078.

Comment Date: 5 p.m. ET 5/30/22.

Docket Numbers: ER22-1823-000.

Applicants: Alabama Power Company, Georgia Power Company, Mississippi Power Company.

Description: § 205(d) Rate Filing: Alabama Power Company submits tariff filing per 35.13(a)(2)(iii: FPL (885 MW) Long-Term Firm PTP Agreement Filing to be effective 6/1/2022.

Filed Date: 5/9/22.

Accession Number: 20220509-5080.

Comment Date: 5 p.m. ET 5/30/22.

Docket Numbers: ER22-1824-000.

Applicants: Alabama Power Company, Georgia Power Company, Mississippi Power Company.

Description: § 205(d) Rate Filing: Alabama Power Company submits tariff filing per 35.13(a)(2)(iii: FPL (Daniel 1&2) Long-Term Firm PTP Agreement Amendment Filing (Gulf Exit) to be effective 12/31/9998.

Filed Date: 5/9/22.

Accession Number: 20220509-5081.

Comment Date: 5 p.m. ET 5/30/22.

Docket Numbers: ER22-1825-000.

Applicants: Alabama Power Company, Georgia Power Company, Mississippi Power Company.

Description: § 205(d) Rate Filing: Alabama Power Company submits tariff filing per 35.13(a)(2)(iii: FPL (Scherer 3) Long-Term Firm PTP Agreement Amendment Filing (Gulf Exit) to be effective 12/31/9998.

Filed Date: 5/9/22.

Accession Number: 20220509-5082.

Comment Date: 5 p.m. ET 5/30/22.

Docket Numbers: ER22-1826-000.

Applicants: Alabama Power Company, Georgia Power Company, Mississippi Power Company.

Description: § 205(d) Rate Filing: Alabama Power Company submits tariff filing per 35.13(a)(2)(iii: FPL (Kingfisher I) Long-Term Firm PTP Agreement Amendment Filing (Gulf Exit) to be effective 12/31/9998.

Filed Date: 5/9/22.

Accession Number: 20220509-5083.

Comment Date: 5 p.m. ET 5/30/22.

Docket Numbers: ER22-1827-000.

Applicants: Alabama Power Company, Georgia Power Company, Mississippi Power Company.

Description: § 205(d) Rate Filing: Alabama Power Company submits tariff filing per 35.13(a)(2)(iii: FPL (Kingfisher II) Long-Term Firm PTP Agreement Amendment Filing (Gulf Exit) to be effective 12/31/9998.

Filed Date: 5/9/22.

Accession Number: 20220509-5084.

Comment Date: 5 p.m. ET 5/30/22.

Docket Numbers: ER22-1828-000.

Applicants: Alabama Power Company, Georgia Power Company, Mississippi Power Company.

Description: § 205(d) Rate Filing: Alabama Power Company submits tariff filing per 35.13(a)(2)(iii: FP&L Interconnection Contract Amendment Filing (Gulf Exiting Pool) to be effective 12/31/9998.

Filed Date: 5/9/22.

Accession Number: 20220509-5087.

Comment Date: 5 p.m. ET 5/30/22.

Docket Numbers: ER22-1829-000.

Applicants: Alabama Power Company, Georgia Power Company, Mississippi Power Company.

Description: Tariff Amendment: Alabama Power Company submits tariff filing per 35.15: Transition Services Agreement Termination Filing (Gulf Exiting Pool) to be effective 12/31/9998.

Filed Date: 5/9/22.

Accession Number: 20220509-5090.

Comment Date: 5 p.m. ET 5/30/22.

Docket Numbers: ER22-1830-000.

Applicants: Georgia Power Company.

Description: Tariff Amendment: Transition Services Agreement Termination Filing (Gulf Exiting Pool) to be effective 12/31/9998.

Filed Date: 5/9/22.

Accession Number: 20220509-5091.

Comment Date: 5 p.m. ET 5/30/22.

Docket Numbers: ER22-1831-000.

Applicants: Mississippi Power Company.

Description: Tariff Amendment: Transition Services Agreement Termination Filing (Gulf Exiting Pool) to be effective 12/31/9998.

Filed Date: 5/9/22.

Accession Number: 20220509-5092.

Comment Date: 5 p.m. ET 5/30/22.

Docket Numbers: ER22-1832-000.

Applicants: Alabama Power Company, Georgia Power Company, Mississippi Power Company.

Description: § 205(d) Rate Filing: Alabama Power Company submits tariff filing per 35.13(a)(2)(iii: TFCAT Amendment Filing (Gulf Exiting Pool) to be effective 5/31/2023.

Filed Date: 5/9/22.

Accession Number: 20220509-5093.

Comment Date: 5 p.m. ET 5/30/22.

Docket Numbers: ER22-1833-000.

Applicants: Midcontinent Independent System Operator, Inc.

Description: § 205(d) Rate Filing: 2022-05-09_SA 1758 GRE-Ewington Energy 2nd Rev GIA (G536) to be effective 4/26/2022.

Filed Date: 5/9/22.

Accession Number: 20220509-5095.

Comment Date: 5 p.m. ET 5/30/22.

Docket Numbers: ER22-1834-000.

Applicants: PJM Interconnection, L.L.C.

Description: § 205(d) Rate Filing: Original ISA, Service Agreement No. 6436; Queue No. AE2-224 to be effective 4/7/2022.

Filed Date: 5/9/22.

Accession Number: 20220509-5098.

Comment Date: 5 p.m. ET 5/30/22.

Docket Numbers: ER22-1835-000.

Applicants: Alabama Power Company, Mississippi Power Company, Georgia Power Company.

Description: § 205(d) Rate Filing: Alabama Power Company submits tariff filing per 35.13(a)(2)(iii: OATT Attachment V Amendment (Gulf Exiting Pool) to be effective 12/31/9998.

Filed Date: 5/9/22.

Accession Number: 20220509-5099.

Comment Date: 5 p.m. ET 5/30/22.

Docket Numbers: ER22-1836-000.

Applicants: Gulf Power Company.

Description: Tariff Amendment: Notice of Cancellation of OATT for Service in the Florida Panhandle to be effective 12/31/9998.

Filed Date: 5/9/22.

Accession Number: 20220509-5112.

Comment Date: 5 p.m. ET 5/30/22.

Docket Numbers: ER22-1837-000.

Applicants: Florida Power & Light Company.

Description: § 205(d) Rate Filing: FPL and Gulf Data Migration Filing to be effective 12/31/9998.

Filed Date: 5/9/22.

Accession Number: 20220509-5113.

Comment Date: 5 p.m. ET 5/30/22.

Docket Numbers: ER22-1838-000.

Applicants: PJM Interconnection, L.L.C.

Description: § 205(d) Rate Filing: Amendment to ISA, SA No. 5366; Queue No. AB2-161 (consent/amend) to be effective 4/16/2019.

Filed Date: 5/9/22.

Accession Number: 20220509-5118.

Comment Date: 5 p.m. ET 5/30/22.

Docket Numbers: ER22-1840-000.

Applicants: PJM Interconnection, L.L.C.

Description: § 205(d) Rate Filing: Original NSA, SA No. 6434; Queue No. AD1-101 to be effective 4/7/2022.

Filed Date: 5/9/22.

Accession Number: 20220509-5123.

Comment Date: 5 p.m. ET 5/30/22.

Take notice that the Commission received the following public utility holding company filings:

Docket Numbers: PH22-13-000.

Applicants: American Century Investment Management Inc.

Description: American Century Investment Management Inc. submits FERC 65-A Exemption Notification.

Filed Date: 5/6/22.

Accession Number: 20220506-5215.

Comment Date: 5 p.m. ET 5/27/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 9, 2022.
Debbie-Anne A. Reese,
Deputy Secretary.

[FR Doc. 2022-10346 Filed 5-12-22; 8:45 am]

BILLING CODE 6717-01-P